DEPARTMENT OF ENERGY

Federal Energy Regulatory Commission

[Project No. 1951-114]

Georgia Power Company; Notice of Availability of Environmental Assessment

June 29, 2004.

In accordance with the National Environmental Policy Act of 1969 and the Federal Energy Regulatory Commission regulations, 18 CFR Part 380 (Order No. 486, 52 FR 47897), the Office of Energy Projects staff (staff) reviewed the request for a municipal water withdrawal from the Sinclair Project, located on the Oconee River in Baldwin, Putnam, and Hancock Counties, Georgia, and prepared an environmental assessment (EA) for the proposed water withdrawal. In this EA, staff analyze the potential environmental effects of the proposed water withdrawal of six million gallons per day as a monthly average from the project reservoir for municipal water supply, and conclude that the proposed water withdrawal would not constitute a major federal action significantly affecting the quality of the human environment.

A copy of the EA is available for review at the Commission in the Public Reference Room, located at 888 First Street, NE., Room 2A, Washington, DC 20426 or may be viewed on the Commission's Web site at http://www.ferc.gov using the “eLibrary” link. Enter the docket number excluding the last three digits in the docket number field to access the Commission order and attached EA, issued June 23, 2004 (107 FERC ¶ 62,264). For assistance, contact FERC On-Line Support at FERCOnlineSupport@ferc.gov or call toll-free 1-866-208-3676. For TTY, call (202) 502-8659.

Linda Mitry,
Acting Secretary.

[FR Doc. E4-1516 Filed 7-9-04; 8:45 am]

BILLING CODE 6717-01-P